DEPARTMENT OF THE INTERIOR

Bureau of Indian Affairs

[212A2100DD/AAKC001030/A0A501010.999900253G]

Indian Gaming; Approval of Tribal-State Class III Gaming Compact in the State of Oregon

AGENCY: Bureau of Indian Affairs, Interior.

ACTION: Notice.

SUMMARY: This notice publishes the approval of Amendment IV to the Tribal-State Compact (Amendment) between the Confederated Tribes of Coos, Lower Umpqua, and Siuslaw Indians (Tribe) and the State of Oregon (State).

DATES: The compact takes effect on August 20, 2021.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment authorizes the Tribe to engage in sports pool wagering at the Tribe's class III gaming facility, updates the Compact to reflect this change in various sections, updates the forms of payment that may be accepted to coincide with the State Lottery, includes provisions to protect personal data of customers, requires certification for any new technology from an independent gaming test laboratory, and corrects previous errors in numbering of Amendments I, II, and III. The Amendment is approved.

Bryan Newland,
Principal Deputy Assistant Secretary—Indian Affairs.

[FR Doc. 2021-17860 Filed 8-19-21; 8:45 am]

BILLING CODE 4337-15-P